SECURITIES AND EXCHANGE COMMISSION

[Release No. 34-81715; File No. SR-BatsBZX-2017-07]

Self-Regulatory Organizations; Bats BZX Exchange, Inc.; Notice of Withdrawal of a Proposed Rule Change, as Modified by Amendment No. 1, To List and Trade Under BZX Rule 14.11(c)(4) the Shares of the VanEck Vectors AMT-Free National Municipal Index ETF of VanEck Vectors ETF Trust

September 25, 2017.

On January 27, 2017, Bats BZX Exchange, Inc. (“Exchange”) filed with the Securities and Exchange Commission (“Commission”), pursuant to Section 19(b)(1) of the Securities Exchange Act of 1934 ¹ and Rule 19b-4 thereunder,² a proposed rule change to list and trade under BZX Rule 14.11(c)(4) shares of the VanEck Vectors AMT-Free National Municipal Index ETF of VanEck Vectors ETF Trust. The proposed rule change was published for comment in the Federal Register on February 14, 2017.³ On March 10, 2017, the Exchange filed Amendment No. 1 to the proposed rule change.⁴ On March 30, 2017, the Commission designated a longer period within which to approve the proposed rule change, disapprove the proposed rule change, or institute proceedings to determine whether to disapprove the proposed rule change.⁵ On May 11, 2017, the Commission instituted proceedings to determine whether to approve or disapprove the proposed rule change.⁶ On August 9, 2017, the Commission issued a notice of designation of a longer period for Commission action on proceedings to determine whether to approve or disapprove the proposed rule change.⁷ The Commission received no comments on the proposed rule change.

¹ 15 U.S.C. 78s(b)(1).

² 17 CFR 240.19b-4.

³ See Securities Exchange Act Release No. 79989 (February 8, 2017), 82 FR 10615.

⁴ Amendment No. 1 is available at: https://www.sec.gov/comments/sr-batsbzx-2017-07/batsbzx201707-1667531-148997.pdf.

⁵ See Securities Exchange Act Release No. 80350, 82 FR 16647 (April 5, 2017).

⁶ See Securities Exchange Act Release No. 80664, 82 FR 22680 (May 17, 2017).

⁷ See Securities Exchange Act Release No. 81363, 82 FR 38726 (August 15, 2017).

On September 21, 2017, the Exchange withdrew the proposed rule change (SR-BatsBZX-2017-07).

For the Commission, by the Division of Trading and Markets, pursuant to delegated authority.⁸
⁸ 17 CFR 200.30-3(a)(12).
Eduardo A. Aleman,
Assistant Secretary.

[FR Doc. 2017-20890 Filed 9-28-17; 8:45 am]

BILLING CODE 8011-01-P